DEPARTMENT OF JUSTICE

Drug Enforcement Administration

[Docket No. DEA-392]

Manufacturer of Controlled Substances Registration: Lin Zhi International, Inc.

ACTION: Notice of registration.

SUMMARY: Lin Zhi International, Inc., applied to be registered as a manufacturer of certain basic classes of controlled substances. The DEA grants Lin Zhi International, Inc. registration as a manufacturer of those controlled substances.

SUPPLEMENTARY INFORMATION: By notice dated May 28, 2014, and published in the Federal Register on June 4, 2014, 79 FR 32321, Lin Zhi International, Inc., 670 Almanor Avenue, Sunnyvale, California 94085, applied to be registered as a manufacturer of certain basic classes of controlled substances. No comments or objections were submitted to this notice.

The Drug Enforcement Administration (DEA) has considered the factors in 21 U.S.C. 823(a) and determined that the registration of Lin Zhi International, Inc. to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
Cocaine (9041) | II
Oxycodone (9143) | II
Hydrocodone (9193) | II
Methadone (9250) | II
Morphine (9300) | II

The company plans to manufacture the listed controlled substances as bulk reagents for use in drug abuse testing.

Dated: January 9, 2015.
Joseph T. Rannazzisi,
Deputy Assistant Administrator.

[FR Doc. 2015-01305 Filed 1-23-15; 8:45 am]

BILLING CODE P